INTERNATIONAL TRADE COMMISSION

[USITC SE-14-045]

Government In the Sunshine Act Meeting Notice

Change of Time of Sunshine Act Meeting

AGENCY HOLDING THE MEETING: United States International Trade Commission

DATE: December 29, 2014

NEW TIME: 10:00 a.m.

PLACE: Room 101, 500 E Street SW., Washington, DC 20436, Telephone: (202) 205-2000

STATUS: Open to the public.

In accordance with 19 CFR 201.35(d)(1), the Commission hereby gives notice that the meeting of December 29, 2014 will be held at 10:00 a.m.

In accordance with Commission policy, subject matter listed above, not disposed of at the scheduled meeting, may be carried over to the agenda of the following meeting. Earlier notification of this change was not possible.

By order of the Commission.
Issued: December 22, 2014.
William R. Bishop,
Supervisory Hearings and Information Officer.

[FR Doc. 2014-30292 Filed 12-22-14; 11:15 am]

BILLING CODE 7020-02-P